DEPARTMENT OF JUSTICE

Notice of Lodging of Consent Decree Pursuant to the Clean Water Act

In accordance with the policy of the Department of Justice, 28 CFR 50.7, notice is hereby given that a proposed consent decree in United States v. Alcoa, Inc., Civ. No. 4:99CV61 AS, was lodged with the United States District Court for the Northern District of Indiana, Hammond Division at Lafayette, on January 16, 2002. The action was brought by the United States against Alcoa, Inc. (“Alcoa”) under section 309(b) and (d) of the Clean Water Act (“the Act”), 33 U.S.C. 1319(b) and (d), for injunctive relief and assessment of civil penalties. The complaint alleges that Alcoa violated the Act and its National Pollutant Discharge Elimination System permit (“NPDES Permit”) issued pursuant to the Act, by failing to comply with numerical limitations governing specific pollutants established by Alcoa's NPDES Permit, including Five-Day Biochemical Oxygen Demand (“BOD5”), polychlorinated biphlenyls (“PCB”), Total Residual Chlorine, Fecal Coliform, Total Suspended Solids (“TSS”), Oil & Grease, and Total Aluminum, discharged by Alcoa to Elliott Ditch at its aluminum manufacturing facility located in Lafayette, Indiana.

Under the proposed consent decree, Alcoa will pay a civil penalty of $550,000; comply with all applicable NPDES Permit requirements by implementing five delineated corrective measures, other corrective measures as necessary to ensure continued compliance, additional corrective measures including enhanced monitoring, and contingent corrective measures if compliance with NPDES Permit requirements for TSS and PCB are not maintained for a 12 month period; perform a Supplemental Environmental Project (“SEP”) valued at $2 million; perform other injunctive relief in the form of instituting an Environmental Management System at its facility; and conduct an Elliott Ditch/Wea Creek Investigation to evaluate sources, fate and transport of PCBs in the water column, sediments and fish in these water bodies.

The Department of Justice will receive comments relating to the proposed Consent Decree for a period of thirty (30) days from the date of this publication. As a result of the discovery of anthrax contamination at the District of Columbia mail processing center in mid-October, 2001, the delivery of regular first-class mail sent through the U.S. Postal Service has been disrupted. Consequently, public comments which are addressed to the Department of Justice in Washington, DC and sent by regular, first-class mail through the U.S. Postal Service are not expected to be received in timely manner. Therefore, comments should be addressed to the Assistant Attorney General, Environment and Natural Resources Division, Department of Justice, and sent: (1) c/o Clifford D. Johnson, Assistant U.S. Attorney, Office of the United States Attorney for the Northern District of Indiana, Robert A. Grant Federal Building, 204 South Main Street, Room M-01, South Bend, Indiana 46601, (219-236-8287); and/or (2) by facsimile to (202) 353-0296; and/or (3) by overnight delivery, other than through the U.S. Postal Service, to Chief, Environmental Enforcement Section, 1425 New York Avenue, NW, 13th Floor, Washington, DC 20005. Each communication should refer on its face to United States v. Alcoa, Inc., D.J. Ref. No. 90-5-1-1-06358.

The proposed Consent Decree may be examined at the Office of the United States Attorney for the Northern District of Indiana, Robert A. Grant Federal Building, 204 South Main Street, Room M-01, South Bend, Indiana 46601, and at the United States Environmental Protection Agency (Region 5), 77 West Jackson Boulevard, Chicago, Illinois 60604-3590 (contact: Joseph Williams (312-886-6631)). A copy of the proposed Consent Decree may also be obtained by faxing a request to Tonia Fleetwood, Department of Justice Consent Decree Library, fax no. (202) 616-6584; phone confirmation no. (202) 514-1547. There is a charge for the copy (25 cents per page reproduction cost). Upon requesting a copy, please mail a check payable to the “U.S. Treasury”, in the amount of $10.75 for the consent decree including one appendix (43 pages) to: Consent Decree Library, U.S. Department of Justice, PO Box 7611, Washington, DC 20044-7611. The check should refer to United States v. Alcoa, Inc., D.J. Ref. No. 90-5-1-1-06358.

William D. Brighton,
Assistant Chief, Environmental Enforcement Section, Environment and Natural Resources Division.

[FR Doc. 02-1836 Filed 1-24-02; 8:45 am]

BILLING CODE 4410-15-M